NATIONAL SCIENCE FOUNDATION

Agency Information Collection Activities; Comment Request; Evaluation of the National Science Foundation (NSF) Innovation Corps (I-Corps) Team Program, Survey of Comparable Projects' Principal Investigators; Proposed Information Collection Request

AGENCY: National Science Foundation.

ACTION: Notice.

SUMMARY: The National Science Foundation (NSF) is announcing plans to request establishment and clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

A copy of the proposed information collection request (ICR) can be obtained by contacting the office listed below in the ADDRESSES section of this notice.

DATES: Submit comments before February 2, 2016.

ADDRESSES: Suzanne H. Plimpton, Reports Clearance Officer, National Science Foundation, 4201 Wilson Boulevard, Suite 1265, Arlington, Virginia 22230 or send email to splimpto@nsf.gov. Copies of the submission may be obtained by calling (703) 292-7556.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

FOR FURTHER INFORMATION CONTACT: Suzanne H. Plimpton, Reports Clearance Officer, National Science Foundation, 4201 Wilson Boulevard, Suite 1265, Arlington, Virginia 22230 or send email to splimpto@nsf.gov. Copies of the submission may be obtained by calling (703) 292-7556. Individuals who use a telecommunications device for the deaf (TDD) may call the Federal Information Relay Service (FIRS) at 1-800-877-8339, which is accessible 24 hours a day, 7 days a week, 365 days a year (including federal holidays).

SUPPLEMENTARY INFORMATION:

Title of Collection: Innovation Corps (I-Corps) Team Program Survey of PIs in Comparable non-I-Corps Projects.

OMB Number: 3145—NEW.

Type of request: Intent to establish an information collection.

Abstract

The Innovation Corps (I-Corps) program was established in 2011 as part of NSF's efforts to encourage a culture of innovation among recipients of research grants. The program provides support and guidance to selected grantees on how to pursue commercial applications of their research. The I-Corps Teams program uses a lean startup approach to encourage scientists to think like entrepreneurs through intensive workshop training and ongoing support. The program focuses on teams comprised of a principal investigator, entrepreneurial lead, and mentor that work together to explore commercialization for their research-derived products.

NSF is supporting the evaluation of the program that includes a rigorous longitudinal outcome/impact evaluation of the I-Corps Team Program using a quasi-experimental design to understand I-Corps impact on teams that go through the program and its impact on team members and academic culture.

The Office of Management and Budget has previously provided clearance for 3 data collection efforts associated with the I-Corps workshops targeting I-Corps grantees. These refer to: (1) A pre-course survey (2) a post-course survey and (3) a longitudinal survey of principal investigators in the program. This request builds on this previously approved information collection for NSF's Engineering IIP Program Monitoring Clearance (OMB Control No. 3145-0238).

This information collection request relates to (1) a proposed survey of principal investigators (PIs) in comparable Non-I-Corps NSF projects and (2) In-depth interviews with 10 I-Corps and 10 comparable non-I-Corps teams.

The survey will begin with an initial screening module to identify PIs who have received support for projects with commercial potential and who have desire to act on that potential but have not received an I-Corps grant. PIs with non-Corps NSF-funded projects awarded between 2009 and 2013 will be surveyed. PIs who reported active interest in commercial potential for their research projects will be asked to complete an additional module adapted from the I-Corps Longitudinal Data Collection already approved by OMB for I-Corps team members. The longitudinal survey collects information on project outputs and outcomes related to commercialization of research-based products. PIs not interested in the commercial potential of their research will stop the survey after completing the screening module.

In addition to the comparison between the I-Corps teams and a comparable group based on survey results, the study also includes in-depth interviews to gain an understanding of the influence of participation in the I-Corps program on PIs and other team members as well as to compare the impact of the I-Corps program on industry collaborations and other networking activities. Half of all in-depth interviews will be conducted over the phone while the other half will take place during site visits to the home institutions of the teams selected for the study.

Affected Public: Non-I-Corps Grant recipients of NSF Programs common in the background of I-Corps Teams Program PIs for the survey and 10 I-Corps and 10 non-I-Corps research teams and networks.

Total Respondents: 9,000 (survey) 160 (in-depth interviews). Frequency: One-time collection.

Total responses: 7,200 (screener module), 720 (modified longitudinal survey module) and 160 (in-depth interviews). Average Time per response: 5 minutes (screener module), 15 minutes (modified longitudinal survey module) and 60 minutes (in-depth interview).

Estimated Total Burden Hours: 940 hours.

Dated: December 1, 2015.
Suzanne H. Plimpton,
Reports Clearance Officer, National Science Foundation.

[FR Doc. 2015-30653 Filed 12-3-15; 8:45 am]

BILLING CODE 7555-01-P